DEPARTMENT OF TRANSPORTATION

National Highway Traffic Safety Administration

Reports, Forms and Record Keeping Requirements Agency Information Collection Activity Under OMB Review

AGENCY: National Traffic Administration, DOT.

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collections and their expected burden. The Federal Register Notice with a 60-day comment period was published on August 6, 2004 [FR Doc. 04-17991, Vol. 69, No. 151, Page 47980].

DATES: Comments must be submitted on or before March 11, 2005.

FOR FURTHER INFORMATION CONTACT: Marcia Tarbet at the National Highway Traffic Safety Administration, Office of Planning, Evaluation, and Budget (NOP-321), 202-366-2570, 400 Seventh Street, NW., 5208N, Washington, DC 20590.

SUPPLEMENTARY INFORMATION:

National Highway Traffic Safety Administration

Title: Highway Crash Data Collection for the Evaluation of Antilock Brake Systems (ABS) and Rear Impact Guards on Heavy Vehicles.

OMB Number: 2127-0614.

Type of Request: Request for public comment on proposed collection of information.

Abstract: As required by the Government Performance and Results Act of 1993 and Executive Order 12866 (58 FR 51735), NHTSA reviews existing regulations to determine if they are achieving policy goals. Federal Motor Vehicle Safety Standards (FMVSS) 105 (49 CFR 571.105) and FMVSS 121 (49 CFR 571.12) require ABS and a malfunction indicator lamp (MIL) on all new heavy vehicles with a Gross Vehicle Weight Rating (GVWR) of 10,000 pounds or more. Implementation of the standards was performed over a three-year period; air-brake truck tractors manufactured on or after March 7, 1997, air-brake trailers and single-unit trucks manufactured on or after March 1, 1998, and hydraulic brake trucks manufactured on or after March 1, 1999.

FMVSS 223 (49 CFR 571.223) and 224 (49 CFR 571.224) set minimum requirements for the geometry, configuration, strength and energy absorption capability of rear impact guards on full trailers and semi-trailers over 10,000 pounds GVWR manufactured on or after January 26, 1998. NHTSA's Office of Planning, Evaluation, and Budget is planning a highway crash data collection effort that will provide adequate information to perform an evaluation of the effectiveness of ABS and rear impact guards for heavy trucks. This study will estimate the actual safety benefits (crashes, injuries, and fatalities avoided) achieved by the standards and provide a basis for assessing whether the standards are functioning as intended. Highway crash data will be analyzed to the extent that the experiences of heavy trucks equipped with ABS and rear impact guards can be compared with the experiences of heavy trucks not so equipped.

Affected Public: State and Local Governments in North Carolina.

Estimated Total Annual Burden: The annual burden is estimated to be 4,036 hours.

Addresses: Send comments, within 30 days, to the Office of Information and Regulatory Affairs, Office of Management and Budget, 725 17th Street, NW., Washington, DC 20503, Attention NHTSA Desk Officer.

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology. A comment to OMB is most effective if OMB receives it within 30 days of publication.

Issued in Washington, DC, February 2, 2005.
Noble N. Bowie,
Associate Administrator for Planning, Evaluation, and Budget.

[FR Doc. 05-2468 Filed 2-8-05; 8:45 am]

BILLING CODE 4910-59-M